DEPARTMENT OF COMMERCE

National Institute of Standards and Technology

Correction: Proposed Information Collection; Comment Request; NIST Construction Grant Program Application Requirements

AGENCY: National Institute of Standards and Technology (NIST).

ACTION: Correction.

SUMMARY: On Tuesday, September 8, 2009, a notice was published in the Federal Register (74 FR 4603) on proposed information collection under the NIST Construction Grant Program.

The second paragraph under SUPPLEMENTARY INFORMATION, I. Abstract, is corrected to read, “This request is for the information collection requirements associated with applying for grant funding. The information is used to determine eligibility and to perform the requisite technical and construction reviews of the proposals to determine if an award should be granted.”

All other information in the notice is correct and remains unchanged.

Dated: September 25, 2009.
Gwellnar Banks,
Management Analyst, Office of the Chief Information Officer.

[FR Doc. E9-23583 Filed 9-30-09; 8:45 am]

BILLING CODE 3510-13-P